DEPARTMENT OF LABOR

Employment and Training Administration

[TA-W-59,067]

Coe Manufacturing; Tigard, OR; Dismissal of Application for Reconsideration

Pursuant to 29 CFR 90.18(C) an application for administrative reconsideration was filed with the Director of the Division of Trade Adjustment Assistance for workers at Coe Manufacturing, Tigard, Oregon. The application did not contain new information supporting a conclusion that the determination was erroneous, and also did not provide a justification for reconsideration of the determination that was based on either mistaken facts or a misinterpretation of facts or of the law. Therefore, dismissal of the application was issued.

TA-W-59,067; Coe Manufacturing Tigard, Oregon (July 12, 2006).

Signed at Washington, DC this 12th day of July 2006.
Richard Church,
Acting Director, Division of Trade Adjustment Assistance.

[FR Doc. E6-11853 Filed 7-24-06; 8:45 am]

BILLING CODE 4510-30-P